DEPARTMENT OF ENERGY

Federal Energy Regulatory Commission

[Docket No. ER01-1554-000]

Alliant Energy Corporate Services, Inc.; Notice of Filing

April 18, 2001.

Take notice that on March 15, 2001, Alliant Energy Corporate Services, Inc. (Alliant Energy Corporate Services) tendered for filing executed Service Agreements with Axia Energy, LP establishing as a Short-Term Firm and Non-Firm Point-to-Point Transmission Customer under the terms of the Alliant Energy Corporate Services transmission tariff. On April 12, 2001, Alliant Energy Corporate Services filed an amendment to page 3 of 5 in the Form of Service Agreement for Short-Term Firm Point-to-Point transmission Service where the title appears “Specifications for Short-Term Firm Point-to-Point Transmission Service.” Alliant Energy Corporate Services and Axia Energy, LP have agreed to amend the title to read “Specifications for Short-Term Firm Point-to-Point Transmission Service” to reflect the actual service that the parties may transact under the service agreement.

Alliant Energy Corporate Services requests an effective date of March 6, 2001.

Copies of these filings have been served upon the Illinois Commerce Commission, the Minnesota Public Utilities Commission, the Iowa Department of Commerce and the Public Service Commission of Wisconsin.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 25, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-10031 Filed 4-23-01; 8:45 am]

BILLING CODE 6717-01-M